DEPARTMENT OF COMMERCE

Bureau of the Census

Census Scientific Advisory Committee Public Meeting

AGENCY: Bureau of the Census, Department of Commerce.

ACTION: Notice of public meeting.

SUMMARY: The Bureau of the Census (Census Bureau) is giving notice of a meeting of the Census Scientific Advisory Committee (CSAC). The Committee will address policy, research, and technical issues relating to a full range of Census Bureau programs and activities, including communications, decennial, demographic, economic, field operations, geographic, information technology, and statistics. The CSAC will meet in a plenary session on December 6-7, 2018. The meeting will be available via webcast at: https://www.census.gov/newsroom/census-live.html. Last minute changes to the schedule are possible, which could prevent giving advance public notice of schedule adjustments. Please visit the CSAC website for the most current meeting agenda at: http://www.census.gov/cac/. The meeting will be available via webcast at: https://www.census.gov/newsroom/census-live.html. Topics of discussion will include:

• 2020 Census Program Update

• 2018 End-to-End Test Update

• Administrative Records Update

• Efforts to Modernize Disclosure Limitation Update

• Administrative Data and Third Party Data Use Working Group Report

DATES: December 6-7, 2018. On Thursday, December 6, the meeting will begin at 8:30 a.m. and end at approximately 5:00 p.m. On Friday, December 7, the meeting will begin at 8:30 a.m. and end at approximately 2:00 p.m.

ADDRESSES: The meeting will be held at the U.S. Census Bureau Auditorium, 4600 Silver Hill Road, Suitland, Maryland 20746.

FOR FURTHER INFORMATION CONTACT: Tara Dunlop Jackson, Branch Chief for Advisory Committees, Customer Liaison and Marketing Services Office, census.scientific.advisory.committee@census.gov, Department of Commerce, U.S. Census Bureau, Room 8H177, 4600 Silver Hill Road, Washington, DC 20233, telephone 301-763-5222. For TTY callers, please use the Federal Relay Service 1-800-877-8339.

SUPPLEMENTARY INFORMATION: The members of the CSAC are appointed by the Director, U.S. Census Bureau. The Committee provides scientific and technical expertise, as appropriate, to address Census Bureau program needs and objectives. The Committee has been established in accordance with the Federal Advisory Committee Act (Title 5, United States Code, Appendix 2, Section 10).

All meetings are open to the public. A brief period will be set aside at the meeting for public comment on December 7. However, individuals with extensive questions or statements must submit them in writing to: census.scientific.advisory.committee@census.gov (subject line “December 2018 CSAC Meeting Public Comment”), or by letter submission to Tara Dunlop Jackson, Committee Liaison Officer, Department of Commerce, U.S. Census Bureau, Room 8H177, 4600 Silver Hill Road, Washington, DC 20233.

If you plan to attend the meeting, please register by Monday, December 3, 2018. You may access the online registration from the following link https://csacfallmeeting2018.eventbrite.com. Seating is available to the public on a first-come, first-served basis.

This meeting is physically accessible to people with disabilities. Requests for sign language interpretation or other auxiliary aids should also be directed to the Committee Liaison Officer as soon as known, and preferably two weeks prior to the meeting.

Please call 301-763-9906 upon arrival at the Census Bureau on the day of the meeting. A photo identification must be presented in order to receive your visitor's badge. Visitors are not allowed beyond the first floor.

Dated: October 18, 2018.
Ron S. Jarmin,
Deputy Director, Performing the Non-Exclusive Functions and Duties of the Director, Bureau of the Census.

[FR Doc. 2018-23135 Filed 10-22-18; 8:45 am]

BILLING CODE 3510-07-P